DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of May 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of section 222 have been met, and section 246(a)(3)(A)(ii) of the Trade Act have been met.

TA-W-59,174; Ethox International, Inc., Buffalo Mfg. Division, Onsite Leased Workers of ADECCO, Buffalo, NY: April 6, 2005.

TA-W-59,196; Kincaid Furniture Co., Inc., Plant #1, On-Site Leased Workers from Foothills Temporary Employment, Hudson, NC: March 16, 2006.

TA-W-59,196A; Kincaid Furniture Co., Inc., Corporate Offices, Hudson, NC: April 11, 2005.

TA-W-59,238; Nashua Corporation, Imaging Supplies Coverted Paper Division, Jefferson City, TN: April 17, 2005.

TA-W-59,311; Paxar Americas, Inc., A Subsidiary of Paxar Corp., Wover Division, On-Site Leased Workers of Manpower, Weston, WV: April 28, 2005.

TA-W-59,320; Artee-Wrap Spun Yarns, A Division of Culp, Inc., Lincolnton, NC: May 2, 2005.

TA-W-59,348; Ardisam, Inc., Cumberland, WI: May 4, 2005.

TA-W-59,356; Masonite Corporation, P.O. Box 285, Corning, CA: May 8, 2005.

TA-W-59,368; Formica Corporation, Rocklin, CA: May 9, 2005.

TA-W-59,139; Whitesell Corporation, Working On-Site at Electrolux Home Products, Greenville, MI: March 13, 2005.

TA-W-59,170; Harris Thomas Industries, Dayton, OH: April 7, 2005.

TA-W-59,212; Vanguard Furniture Co., Inc., On-Site Lease Workers of Accuforce, Hickory, NC: April 12, 2005.

TA-W-59,254; Layman Lumber Company, LLC, On-Site Leased Workers of Act Now, Inc., Naches, WA: April 19, 2005.

TA-W-59,276; Unifi, Inc., Plant #7, Mayodan, NC: April 24, 2005.

TA-W-59,200; General Mills, Inc., Pillsbury Division, Allentown, PA: April 12, 2005.

The following certifications have been issued. The requirements of (a)(2)(B) (shift in production) of Section 222 and section 246(a)(3)(A)(ii) of the Trade Act have been met.

TA-W-59,096; DJ Orthopedics, Distribution Center, Vista, CA: March 21, 2005.

TA-W-59,222; Unilever Supply Chain, Inc., A Division of Conopco, Merced, CA: April 14, 2005.

TA-W-59,230; Stolt Sea Farm, A Subsidiary of Stolt-Nielsen, On-Site Leased Workers of Hamilton Connections, Stratford, CT: April 17, 2005.

TA-W-59,293; Invensys Appliance Controls, North Manchester, IN: May 29, 2006.

TA-W-59,311A; Paxar Americas, Inc., A Subsidiary of Paxar Corp., Printed Division, On-Site Leased Workers of Foothill, Lenior, NC: September 24, 2005.

TA-W-59,318; F. Schumacher and Company, dba Vogue Wallcovering, Fitchburg, MA: May 2, 2005.

TA-W-59,375; Eagle Picher Automotive, A Subsidiary of Eagle Picher, Hillsdale Tool Division, Hillsdale, MI: November 22, 2005.

TA-W-59,375A; Eagle Picher Automotive, A Subsidiary of Eagle Picher, Hillsdale Tool Division, Jonesville, MI: November 22, 2005.

TA-W-59,164; Sun Components, Inc., Warsaw, IN: April 3, 2005.

TA-W-59,323; Moore Wallace, Business Form Design Division, A RR Donnelly Company, Monroe, WI: April 28, 2005.

TA-W-59,386; Woodmaster, Inc., St. Anthony, IN: April 27, 2005.

The following certification has been issued. The requirement of supplier to a trade certified firm and section 246(a)(3)(A)(ii) of the Trade Act have been met.

None.

The following certification has been issued. The requirement of downstream producer to a trade certified firm and section 246(a)(3)(A)(ii) of the Trade Act have been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-59,201; Amphenol T and M Antennas, A Division of Amphenol Corp., Vernon Hill, IL.

TA-W-59,227; York Group Metal Casket Assembly (The), Matthews Casket Division, A Subsidiary of Matthews International, Marshfield, MO.

TA-W-59,344; Factory Screenworks, King, NC.

The investigation revealed that criteria (a)(2)(A)(I.B.) (Sales or production, or both, did not decline) and (a)(2)(B)(II.B) (shift in production to a foreign country) have not been met.

None.

The investigation revealed that criteria (a)(2)(A)(I.C.) (increased imports) and (a)(2)(B)(II.B) (No shift in production to a foreign country) have not been met.

TA-W-59,010; Foamex LP, A Subsidiary of Foamex International, Corry, PA.

TA-W-59,050; Wise Industries, Kings Mountain, NC.

TA-W-59,197; Collins and Aikman Products Co., PO Box 208, Farmville, NC.

The investigation revealed that criteria (a)(2)(A)(I.C.) (Increased imports and (a)(2)(B)(II.C) (has shifted production to a foreign country) have not been met.

TA-W-59,042; Smart Papers, Park Falls, WI.

The workers firm does not produce an article as required for certification under section 222 of the Trade Act of 1974.

TA-W-59,137; Harte-Hanks, A Subsidiary of Harte Hanks Market Intelligence, Sterling Heights, MI.

TA-W-59,268; Freedom Food Service, Intier Automotive Seating of America, A Division of Elliott's, Inc., Red Oak, IA.

TA-W-59,270; GC Services, El Paso Operator Services, El Paso, TX.

TA-W-59,281; Super Hanger Supply Solutions, Inc., Longwood, FL.

The investigation revealed that criteria (2) has not been met. The workers firm (or subdivision) is not a supplier or downstream producer to trade-affected companies.

None.

Affirmative Determinations for Alternative Trade Ajdustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-59,201; Amphenol T and M Antennas, A Division of Amphenol Corp., Vernon Hill, IL.

TA-W-59,227; York Group Metal Casket Assembly (The), Matthews Casket Division, A Subsidiary of Matthews International, Marshfield, MO.

TA-W-59,344; Factory Screenworks, King, NC.

TA-W-59,010; Foamex LP, A Subsidiary of Foamex International, Corry, PA.

TA-W-59,050; Wise Industries, Kings Mountain, NC.

TA-W-59,042; Smart Papers, Park Falls, WI.

TA-W-59,137; Harte-Hanks, A Subsidiary of Harte Hanks Market Intelligence, Sterling Heights, MI.

TA-W-59,268; Freedom Food Service, Intier Automotive Seating of America, A Division of Elliott's, Inc., Red Oak, IA.

TA-W-59,270; GC Services, El Paso Operator Services, El Paso, TX.

TA-W-59,281; Super Hanger Supply Solutions, Inc., Longwood, FL.

The Department has determined that criterion (1) of section 246 has not been met. Workers at the firm are 50 years of age or older.

None.

The Department has determined that criterion (2) of section 246 has not been met. Workers at the firm possess skills that are easily transferable.

TA-W-59,386; Woodmaster, Inc., St. Anthony, IN.

The Department has determined that criterion (3) of section 246 has not been met. Competition conditions within the workers' industry are not adverse.

None.

I hereby certify that the fore mentioned determinations were issued during the month of May 2006. Copies of these determinations are available for inspection in Room C-5311, U.S. Department of Labor, 200 Constitution Avenue, NW., Washington, DC 20210 during normal business hours or will be mailed to persons who write to the above address.

Dated: June 1, 2006.
Erica R. Cantor,
Director, Division of Trade Adjustment Assistance.

[FR Doc. E6-9024 Filed 6-8-06; 8:45 am]

BILLING CODE 4510-30-P